DEPARTMENT OF HEALTH AND HUMAN SERVICES

National Institutes of Health

Center for Scientific Review; Amended Notice of Meeting

Notice is hereby given of a change in the meeting of the Center for Scientific Review Special Emphasis Panel, Revision Applications for Basic, Social and Behavioral Research on the Social, Cultural, Biological and Psychological Mechanisms of Stigma, October 20, 2013, 6:00 p.m. to October 21, 2013, 5:00 p.m., National Institutes of Health, 6701 Rockledge Drive, Bethesda, MD 20892 which was published in the Federal Register on September 26, 2013, 78 FR 59362.

The meeting will be held on November 14-15, 2013. The meeting time and location remain the same. The meeting is closed to the public.

Dated: October 25, 2013.
Anna Snouffer,
Deputy Director, Office of Federal Advisory Committee Policy.

[FR Doc. 2013-25880 Filed 10-30-13; 8:45 am]

BILLING CODE 4140-01-P